DEPARTMENT OF ENERGY

Federal Energy Regulatory Commission

Notice of Effectiveness of Exempt Wholesale Generator Status

| Docket Nos.
Alliant Energy Corporate Services, Inc | EG11-125-000
Full Circle Renewables, LLC | EG11-126-000
Invenergy Illinois Solar I LLC | EG11-127-000
Record Hill Wind LLC | EG11-128-000
Vasco Winds, LLC | EG11-129-000
NexEra Energy Montezuma II Wind, LLC | EG11-130-000
Richard-Stryker Generation LLC | EG11-131-000
Pioneer Trail Wind Farm, LLC | EG11-132-000
GSG 6, LLC | EG11-133-000

Take notice that during the month of November 2011, the status of the above-captioned entities as Exempt Wholesale Generators became effective by operation of the Commission's regulations. 18 CFR 366.7(a).

Dated: December 21, 2011.
Kimberly D. Bose,
Secretary.

[FR Doc. 2011-33316 Filed 12-28-11; 8:45 am]

BILLING CODE 6717-01-P